DEPARTMENT OF TRANSPORTATION

National Highway Traffic Safety Administration

[Docket No. NHTSA-2019-0040; Notice 1]

Kia Motors America, Inc, Receipt of Petition for Decision of Inconsequential Noncompliance

AGENCY: National Highway Traffic Safety Administration (NHTSA), Department of Transportation (DOT).

ACTION: Receipt of petition.

SUMMARY: Kia Motors America, Inc., and Kia Motors Corporation (collectively “Kia”), has determined that certain Model year (MY) 2020 Kia Telluride motor vehicles do not fully comply with Federal Motor Vehicle Safety Standard (FMVSS) No. 110, Tire Selection and Rims and Motor Home/Recreation Vehicle Trailer Load Carrying Capacity Information for Motor Vehicles with a GVWR of 4,536 kilograms (10,000 pounds) or less. Kia filed a noncompliance report dated April 12, 2019, and subsequently petitioned NHTSA on April 18, 2019, for a decision that the subject noncompliance is inconsequential as it relates to motor vehicle safety. This notice announces receipt of Kia's petition.

DATES: Send comments on or before September 20, 2019.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

SUPPLEMENTARY INFORMATION:

I. Overview

Kia has determined that certain MY 2020 Kia Telluride motor vehicles do not fully comply with paragraphs S4.3.3 of FMVSS No. 110, Tire Selection and Rims and Motor Home/Recreation Vehicle Trailer Load Carrying Capacity Information for Motor Vehicles with a GVWR of 4,536 kilograms (10,000 pounds) or less (49 CFR 571.110). Kia filed a noncompliance report dated April 12, 2019, pursuant to 49 CFR part 573, Defect and Noncompliance Responsibility and Reports, and subsequently petitioned NHTSA on April 18, 2019, for an exemption from the notification and remedy requirement of 49 U.S.C Chapter 301 on the basis that this noncompliance is inconsequential as it relates to motor vehicle safety pursuant to 49 U.S.C. 30118(d) and 30120(h) and 49 CFR part 556, Exemption for Inconsequential Defect or Noncompliance.

This notice of receipt of Kia's petition is published under 49 U.S.C. 30118 and 30120 and does not represent any agency decision or other exercise of judgment concerning the merits of the petition.

II. Vehicles Involved

Approximately 8,773 MY 2020 Kia Telluride motor vehicles manufactured between January 10, 2019, and March 27, 2019, are potentially involved.

III. Noncompliance

Kia explains that the noncompliance is that the subject vehicles are equipped with Part 567 certification labels that are missing the value for the rim size as required by paragraph S4.3.3 of FMVSS No. 110. Specifically, the subject vehicles are equipped with 7.5Jx20 or 7.5Jx18 rims, however, the part 567 certification labels are missing the “20” or “18” inches after the “7.5Jx.” The certification labels also contain a typo. The “i” in “psi” is missing in the section of the label, which identifies the corresponding tire inflation pressure.

IV. Rule Requirements

Paragraphs S4.3.3 of FMVSS No. 110 provide the requirements relevant to this petition. Each vehicle must show the size designation and, if applicable, the type designation of rims (not necessarily those on the vehicle) appropriate for the tire and appropriate for use on that vehicle, including the tire installed as original equipment on the vehicle by the vehicle manufacturer, after each GAWR listed on the certification label required by § 567.4 or § 567.5 of this chapter. This information should be in English, letters block capitals and numerals not less than 2.4 millimeters high and in the following format (Truck Example- Suitable Tire-Rim Choice):

GVWR: 2,441 kilograms (5381 pounds).

GAWR: Front-1,299 kilograms (2,864 pounds) with P265/70R16 tires, 16x8.0 rims at 248 kPa (36 psi) cold single.

GAWR: Rear-1,299 kilograms (2,864 pounds) with P265/70R16 tires, 16x8.00 rims at 248 kPa (36 psi) cold single.

V. Summary of Petition

Kia described the subject noncompliance and stated its belief that the noncompliance is inconsequential as it relates to motor vehicle safety.

In support of its petition, Kia contends that the information missing from the label is a minor omissions without adverse safety implications because the information is readily available from other sources.

1. Kia states that FMVSS No. 110 paragraph S4.3(d) requires that the tire and loading information placard state the tire size designations for the tires installed on the vehicle at the time of first purchase. On the affected vehicles, the FMVSS No. 110 tire and loading label (which is located directly adjacent to the certification label on the “B” pillar), contains the correct tire size dimensions, recommended cold tire inflation pressure, and vehicle capacity weight.

2. Kia also noted that FMVSS No. 110, paragraph S4.3(f), also requires the tire and loading placard to state “See Owner's Manual for Additional Information.” The Owner's Manual for the 2020 Telluride provides the wheel rim and tire information, which the owner can easily refer to confirm the correct tire pressure.

3. The consumer can also check the tire rims installed on the vehicle to determine the correct wheel rim size needed. Kia noted that FMVSS No. 110, paragraph S.4.4.2(b), requires each rim to be marked to identify the rim size. The affected vehicles meet the requirements of this section.

4. Kia is not aware of any accidents or injuries related to the omitted tire rim size information or typographical errors on the certification label, nor has it received contact from vehicle owners regarding this issue.

5. Kia says NHTSA has previously granted similar petitions for inconsequential noncompliance with FMVSS No. 110, paragraph S4.3.3, with respect to missing or incorrect information on the certification label. See e.g., Hyundai-Ki America Technical Center, Inc., Grant of Petition for Decision of Inconsequential Noncompliance, 78 FR 38445 (June 26, 2013) [granting petition where certification labels on certain MY 2012 Hyundai Veracruz vehicles were missing tire size designation information entirely]; Chrysler Group, LLC, Grant of Petition for Decision of Inconsequential Noncompliance, 78 FR 38443 (June 26, 2013) [granting petition where certification labels in certain MY 2011 Chrysler Town and Country and Dodge Grand Caravan vehicles incorrectly identified tire size]; and BMW of North America, LLC., Grant of Petition for Decision of Inconsequential Noncompliance, 78 FR 76408 (December 17, 2013) [granting petition where certification labels in certain MGMT7099DMY 2012 X3 SAV vehicles contained incorrect tire and rim information for the tires and rims installed as original equipment].

Kia concludes that the subject noncompliance is inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Kia no longer controlled at the time it determined that the noncompliance existed. However, any decision on this petition does not relieve vehicle distributors and dealers of the prohibitions on the sale, offer for sale, or introduction or delivery for introduction into interstate commerce of the noncompliant vehicles under their control after Kia notified them that the subject noncompliance existed.

Authority: (49 U.S.C. 30118, 30120: delegations of authority at 49 CFR 1.95 and 501.8).

Otto G. Matheke III,
Director, Office of Vehicle Safety Compliance.

[FR Doc. 2019-18030 Filed 8-20-19; 8:45 am]

BILLING CODE 4910-59-P